DEPARTMENT OF HEALTH AND HUMAN SERVICES

Substance Abuse and Mental Health Services Administration

Fiscal Year (FY) 2002 Funding Opportunities

AGENCY: Substance Abuse and Mental Health Services Administration, HHS.

ACTION: Notice of funding availability.

SUMMARY: The Substance Abuse and Mental Health Services Administration (SAMHSA) Center for Substance Abuse Treatment (CSAT) announces the availability of FY 2002 funds for grants for the following activity. This notice is not a complete description of the activity; potential applicants must obtain a copy of the Guidance for Applicants (GFA), including Part I, Cooperative Agreements for State Data Infrastructure (SDI) TI 02-010, before preparing and submitting an application.

Activity | Application Deadline | Est. Funds FY 2002 | Est. Number of Awards | Project Period
Cooperative Agreements for State Data Infrastructure Program | July 24, 2002 | $5.0 million | 50 | 3 years.

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Complete application kits for this GFA will be mailed directly from SAMHSA/CSAT by the Government Project Officer (GPO) to SSAs for the States. For additional copies please contact:

Richard Thoreson, GPO, Center for Substance Abuse Treatment, SAMHSA, Rockwall II, Suite 840, 5600 Fishers Lane, Rockville, MD 20857. Phone: (301) 443-5325. E-mail: rthoreso@samhsa.gov.

The PHS 5161-1 application form and the full text of the activity are also available electronically via SAMHSA's World Wide Web home page: http://www.samhsa.gov.

When requesting an application kit, the applicant must specify the particular activity for which detailed information is desired. All information necessary to apply, including where to submit applications and application deadline instructions, are included in the application kit.

Purpose: The Substance Abuse and Mental Health Services Administration (SAMHSA), Center for Substance Abuse Treatment (CSAT) announces the availability of fiscal year FY 2002 funds for cooperative agreements with States to upgrade State Data Infrastructure (SDI). The primary goal of this program is to help Single State Authorities (SSAs) report performance measures for planned Substance Abuse Prevention and Treatment Block Grant Performance Partnerships (PPG). Funds will assist States, in collaboration with each other and with CSAT, to develop administrative data infrastructure for collecting and reporting PPG and related information. Funds can also be used to upgrade State staff needed to collect and analyze performance data.

Eligibility: The statutory authority for this program limits eligibility to the States. Applicants are limited to the Single State Authorities (SSAs) because of their responsibility to submit performance data for the planned Performance Partnership Grants (PPGs). For the purpose of this GFA, the term “State(s)” includes SSAs for all 50 States, the District of Columbia, Puerto Rico, Guam, the Northern Mariana Islands, the Virgin Islands, American Samoa, and the Trust Territory of the Pacific Islands.

Availability of Funds: In FY 2002, approximately $5,000,000 will be available. Annual awards available to the 50 States, the District of Columbia and Puerto Rico will be approximately $100,000 in total costs (direct and indirect). Annual awards available to U.S. territories will be approximately $50,000 in total costs (direct or indirect). Actual funding levels will depend upon the number or scored applications and the availability of funds.

In accordance with section 1971(d) of the PHS Act, awardees must agree to make available (directly or through donations from public or private entities) non-Federal contributions of at least 50 percent of total project costs. For example, if the award is $100,000, then the non-Federal contribution must also be $100,000, which is 50 percent of total project costs ($200,000). A non-Federal contribution may be in cash or in kind, fairly evaluated, including plant, equipment or services. Amounts provided by the Federal Government, or services assisted or subsidized to any significant extent by the Federal Government, may not be included in determining the amount of such contributions.

Period of Support: An award may be requested for a project period of up to 3 years.

Criteria for Review and Funding: General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.238.

Program Contact: For questions concerning program issues, contact: Richard Thoreson, GPO, Center for Substance Abuse Treatment, SAMHSA, Rockwall II, Suite 840, 5600 Fishers Lane, Rockville, MD 20857. Phone: (301) 443-5325. E-mail: rthoreso@samhsa.gov.

For questions regarding grants management issues, contact: Steve Hudak, Division of Grants Management OPS, SAMHSA, Rockwall II, 6th floor, 5600 Fishers Lane, Rockville, MD 20857. (301) 443-9666. E-mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2002 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372 Applications submitted in response to the FY 2002 activity listed above are subject to the intergovernmental review requirements of Executive Order 12372, as implemented through DHHS regulations at 45 CFR part 100. Executive Order 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to:

Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: June 7, 2002.
Richard Kopanda,
Executive Officer, SAMHSA.

[FR Doc. 02-14905 Filed 6-12-02; 8:45 am]

BILLING CODE 4162-20-P